DEPARTMENT OF TRANSPORTATION

Federal Aviation Administration

Notice of Solicitation for Nominations for Appointment to the Aviation Rulemaking Advisory Committee (ARAC)

AGENCY: Federal Aviation Administration (FAA), Department of Transportation (DOT).

ACTION: Solicitation for nominations for appointment to ARAC.

SUMMARY: The FAA is publishing this notice to solicit nominations for membership on ARAC.

DATES: Nominations must be received no later than 5:00 p.m. Eastern Time on May 18, 2022.

ADDRESSES: Nominations can be submitted electronically (by email) to 9-awa-arac@faa.gov. The subject line should state “ARAC Nomination.”

FOR FURTHER INFORMATION CONTACT: Lakisha Pearson, Federal Aviation Administration, 800 Independence Avenue SW, Washington, DC 20591, telephone (202) 267-4191; email to 9-awa-arac@faa.gov.

SUPPLEMENTARY INFORMATION:

Background

ARAC was established on January 22, 1991, under the Federal Advisory Committee Act (FACA) pursuant to Title 5 of the United States Code, Appendix 2. The purpose of ARAC is to provide information, advice, and recommendations to the Secretary of Transportation, through the FAA Administrator, concerning rulemaking activities, such as aircraft operations, airman and air agency certification, airworthiness standards and certification, airports, maintenance, noise, and training.

Description of Duties

ARAC will undertake only tasks assigned to it by FAA and provide direct, first-hand information, advice, and recommendations by meeting and exchanging ideas on the tasks assigned. In addition, ARAC will respond to ad-hoc informational requests from FAA.

Membership

The ARAC is composed of members appointed by the Secretary of Transportation upon recommendation by the FAA Administrator. All ARAC members serve at the pleasure of the Secretary of Transportation. ARAC will have no more than 30 members and is composed of representatives from organizations directly and indirectly impacted by FAA regulations. These organizations include aircraft owners and operators, airmen and flight crewmembers, airports, aircraft maintenance providers, aircraft manufacturers, public citizen and passenger groups, training providers, and labor organizations. The designated organizations are intended to provide balanced representation in terms of knowledge, expertise, and points of view of interested parties relative to the ARAC's tasks. Each voting member holds appropriate authority in the designated organization to speak for it and the community or industry represented. In addition, members provide a balance in points of view regarding the functions and tasks to be performed by ARAC. Members are appointed for a 2-year term.

Nomination Process

The Secretary is seeking individual nominations for membership to the ARAC. Any interested person may nominate one or more qualified individuals for membership on ARAC. Self-nominations are also accepted. Nominations must include, in full, the following materials to be considered for membership. Failure to submit the required information may disqualify a candidate from the review process.

a. A biography, including professional and academic credentials.

b. A résumé or curriculum vitae, which must include relevant job experience, qualifications, as well as contact information (email, telephone, and mailing address).

c. A one-page statement describing how the candidate will benefit ARAC, taking into account the candidate's unique perspective that will advance the conversation. This statement must also identify the stakeholder group that the candidate would represent.

Finally, candidates should state their previous experience on a Federal advisory committee and/or aviation rulemaking committee (if any), their level of expertise in the stakeholder group they wish to represent, and the size of the constituency they represent or are able to reach.

Current ARAC members who wish to be reappointed to the committee must respond to this solicitation notice.

Evaluations will be based on the materials submitted.

The Secretary will make every effort to appoint members to serve on ARAC from among those candidates determined to have the technical expertise required to meet Departmental needs, and in a manner to ensure an appropriate balance of membership. The selection of committee members will be consistent with achieving the greatest impact, scope, and credibility among diverse stakeholders. An effort will be made to appoint members who represent a range of organizations directly or indirectly impacted by FAA regulations. To the extent practicable, the membership of the committee will include persons with lived experience and knowledge of the needs of underrepresented groups. The Secretary reserves the discretion to appoint members to serve on ARAC who were not nominated in response to this notice if necessary to meet Departmental needs in a manner to ensure an appropriate balance of membership.

Issued in Washington, DC, on April 21, 2022.
Brandon Roberts,
Executive Director, Office of Rulemaking.

[FR Doc. 2022-08928 Filed 4-26-22; 8:45 am]

BILLING CODE 4910-13-P